DEPARTMENT OF VETERANS AFFAIRS

Veterans' Disability Benefits Commission; Notice of Meeting

The Department of Veterans Affairs (VA) gives notice under Public Law 92-463 (Federal Advisory Committee Act) that the Veterans' Disability Benefits Commission has scheduled a meeting for January 19-20, 2006 at the Embassy Suites DC Convention Center, 900 10th Street, NW., Washington, DC. The meeting will begin each day at 9:30 a.m. On January 19, the meeting will end at 4:45 p.m., and on January 20 the meeting will end at 3 p.m. The meeting is open to the public.

The purpose of the Commission is to carry out a study of the benefits under the laws of the United States that are provided to compensate and assist veterans and their survivors for disabilities and death attributable to military service.

The agenda for the meeting will include updates on the proposed work plans of the Center for Naval Analyses (CNA) and the Institute of Medicine (IOM), firsthand accounts of disabled service members and veterans, an overview of the VA benefit claims appellate process and a discussion of future field visits to be conducted by Commission members during calendar year 2006.

Interested persons may attend and present oral statements to the Commission. Oral presentations will be limited to five minutes or less, depending on the number of participants. Interested parties may provide written comments for review by the Commission prior to the meeting, by e-mail to veterans@vetscommission.intranets.com or by mail to Mr. Ray Wilburn, Executive Director, Veterans' Disability Benefits Commission, 1101 Pennsylvania Avenue, NW., 5th Floor, Washington, DC 20004.

Dated: December 9, 2005.
By Direction of the Secretary.
E. Philip Riggin,
Committee Management Officer.

[FR Doc. 05-24108 Filed 12-15-05; 8:45 am]

BILLING CODE 8320-01-M